DEPARTMENT OF LABOR

Employment and Training Administration

[TA-W-38,447]

Pinebluff Manufacturing Company, Now Known as Ellery Homestyles, LLC, Pinebluff, NC; Amended Certification Regarding Eligibility To Apply for Worker Adjustment Assistance

In accordance with section 223 of the Trade Act of 1974 (19 U.S.C. 2273) the Department of Labor issued a Certification of Eligibility to Apply for Worker Adjustment Assistance on February 7, 2001, applicable to workers of Pinebluff Manufacturing Company, Pinebluff, North Carolina. The notice was published in the Federal Register on March 2, 2001 (66 FR 13086).

At the request of the petitioners, the Department reviewed the certification for workers of the subject firm. The workers were engaged in the production of curtains

The workers of Ellery Homestyles, LLC, Pinebluff, North Carolina (TA-W-41,083) engaged in the distribution of window curtains were denied Trade Adjustment Assistance on March 27, 2002. Performance of services does not constitute production of an article, as required by the Trade Act of 1974, and this determination has been upheld in the U.S. Court of Appeals.

The petitioners provided new information after the issuance of the March 27, 2002 denial indicating that after a company name change in April 2001, Pinebluff Manufacturing Company is now known as Ellery Homestyles, LLC.

Accordingly, the Department is amending the certification determination to properly reflect this matter.

The intent of the Department's certification is to include all workers of Pinebluff Manufacturing Company, now known as Ellery Homestyles, LLC who were adversely affected by increased imports.

The amended notice applicable to TA-W-38,447 is hereby issued as follows:

All workers of Pinebluff Manufacturing Company, now known as Ellery Homestyles, LLC, Pinebluff, North Carolina who became totally or partially separated from employment on or after December 4, 1999, through February 7, 2003, are eligible to apply for adjustment assistance under Section 223 of the Trade Act of 1974.

Signed at Washington, DC, this 26th day of April, 2002.
Linda G. Poole,
Certifying Officer, Division of Trade Adjustment Assistance.

[FR Doc. 02-15848 Filed 6-21-02; 8:45 am]

BILLING CODE 4510-30-P